DEPARTMENT OF COMMERCE

National Oceanic and Atmospheric Administration

[RTID 0648-XA995]

Endangered and Threatened Species; Take of Anadromous Fish

AGENCY: National Marine Fisheries Service (NMFS), National Oceanic and Atmospheric Administration (NOAA), Commerce.

ACTION: Notice, extension of comment period.

SUMMARY: NMFS is extending the public comment period for the Notice of Intent (NoI) to prepare the Western Oregon State Forests Habitat Conservation Plan (WOSF HCP) Environmental Impact Statement (EIS). We, NMFS, intend to prepare an EIS, in accordance with the requirements of the National Environmental Policy Act (NEPA), to analyze the potential impacts on the human (biological, physical, social, and economic) environment caused by the WOSF HCP and a range of reasonable alternatives. The primary purpose of the comment period is to engage Federal, Tribal, State, and local governments and the public in the identification of issues and concerns, potential impacts, and reasonable alternatives to the proposed action that meet the purpose and need for consideration in the draft EIS.

DATES: The original NoI issued on March 8, 2021 (86 FR 13337), provided for a comment period to end on Wednesday, April 7, 2021. The comment period is now extended 14 days and will close Wednesday, April 21, 2021. Comments must be received at the appropriate address (see ADDRESSES) no later than 11:59 p.m. Eastern time on April 21, 2021. Comments received after this date may not be accepted. Comments submitted prior to this announcement do not need to be resubmitted as a result of the extension of the comment period.

ADDRESSES: You may submit comments on this document, identified by NOAA-NMFS-2021-0019, by Electronic Submission: Submit all electronic public comments via the Federal e-Rulemaking Portal. Go to https://www.regulations.gov and enter NOAA-NMFS-2021-0019 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Michelle McMullin, NMFS, 541-957-3378, Michelle.McMullin@noaa.gov. Additional information can be found on the project website: https://www.fisheries.noaa.gov/action/notice-intent-prepare-environmental-impact-statement-western-oregon-state-forest-habitat. In addition to this Federal Register notice, NMFS will post a notice of the extension on its website and will send an email to interested parties.

SUPPLEMENTARY INFORMATION: The WOSF HCP is being prepared in support of a request for Endangered Species Act (ESA) incidental take permits (ITPs) authorizing incidental take of covered species by covered activities. The applicant for the ITPs is the Oregon Department of Forestry (ODF). Under the proposed action, NMFS and USFWS would approve the WOSF HCP and issue ITPs with 70-year permit terms to the ODF for incidental take of covered species from covered activities in the plan area.

The primary purpose of the scoping process is for the public to assist NMFS in developing the EIS. NMFS requests that the comments be specific. In particular, we request information regarding: Any science that is relevant and not yet incorporated, any interpretation of science that is different than what is presented; significant issues; identification of impacts that are not fully off-set; review and input regarding monitoring; possible alternatives that meet the purpose and need; effects or impacts to the human environment from the proposed action or alternatives; and potential terms and conditions that may minimize adverse effects, including time or area restrictions or both to reduce environmental impacts.

We are using this process to seek alternatives, which may include, but are not limited to variation in the length of the permit term; adding or removing some of the covered species; the level of take allowed; the level, location, or type of minimization, mitigation, or monitoring provided under the HCP; the scope of covered activities; the location, amount or type of conservation, or similar aspects of the permit conditions. Further information is contained in the NoI (86 FR 13337).

Authority: 42 U.S.C. 4321 et seq.; 40 CFR 1500-1508; and Companion Manual for NOAA Administrative Order 216-6A.

Dated: April 2, 2021.
Angela Somma,
Chief, Endangered Species Division, Office of Protected Resources, National Marine Fisheries Service.

[FR Doc. 2021-07189 Filed 4-6-21; 8:45 am]

BILLING CODE 3510-22-P